DEPARTMENT OF HEALTH AND HUMAN SERVICES

Administration for Children and Families

Award of a Single Source Cooperative Agreement Grant to the Congressional Hunger Center in Washington, DC

AGENCY: Office of Policy, Research and Evaluation, ACF, HHS.

ACTION: The Administration for Children and Families (ACF) announces the award of a single source cooperative agreement to the Congressional Hunger Center in Washington, DC to support a Bill Emerson National Hunger Fellow.

C.F.D.A. Number: 93.647.

Statutory Authority: The award is authorized under Section 1110 of the Social Security Act, 42 U.S.C. § 613.

SUMMARY: The Administration for Children and Families (ACF), Office of the Assistant Secretary (OAS), announces the award of a single source cooperative agreement for $3,000 with the Congressional Hunger Center (CHC) in Washington, DC, to support a Bill Emerson National Hunger Fellow who will work on hunger and obesity issues for young children. The Fellow will work closely with the ACF health team on strengthening its strategic vision to improve health and nutrition in children's programs. The Fellow will work with the team to examine programs in the Office of Child Care (OCC), OCC Tribal Maternal, Infant, and Early Childhood Home Visiting (TMIECHV) Grant Program under the Affordable Care Act (ACA), and the Office of Head Start, and will communicate with other agencies on child-focused nutrition programs. There is currently no individual in ACF designated to work specifically on these nutrition- and hunger-related issues. Additionally, the Fellow will work with the ACF health team to synthesize ideas emergent from this investigative work to further develop strategies for integrating hunger- and obesity-prevention strategies into ACF's childhood programming.

DATES: March 1, 2012—February 28, 2013.

FOR FURTHER INFORMATION CONTACT: George Askew, MD, FAAP, Senior Policy Advisor, Office of the Assistant Secretary, 901 D Street SW., Washington, DC 20447. Telephone: 202-401-1399; Email: george.askew@acf.hhs.gov.

George Askew,
Senior Policy Advisor, Office of the Assistant Secretary.

[FR Doc. 2012-12297 Filed 5-21-12; 8:45 am]

BILLING CODE 4184-07-P